DEPARTMENT OF COMMERCE

International Trade Administration

[A-570-001]

Potassium Permanganate From the People's Republic of China: Extension of Time Limit for Final Results of Antidumping Duty New Shipper Review

AGENCY: Import Administration, International Trade Administration, Department of Commerce.

ACTION: Notice of Extension of Time Limit For Final Results of Antidumping Duty New Shipper Review.

EFFECTIVE DATE: March 14, 2002.

FOR FURTHER INFORMATION CONTACT: John Conniff at (202) 482-1009 or Chris Brady at (202) 482-4406, Office of AD/CVD Enforcement, Group II, Office 4, Import Administration, International Trade Administration, U.S. Department of Commerce, 14th Street and Constitution Ave, NW, Washington, DC 20230.

SUPPLEMENTARY INFORMATION:

Statutory Time Limits

Section 751(a)(2)(B)(iv) of the Tariff Act of 1930, as amended (the Act), requires the Department of Commerce (the Department) to make a final determination within 90 days after the date on which the preliminary determination is issued. However, if the Department concludes that the case is extraordinarily complicated, it may extend the 90-day period to 150 days.

Background

On March 8, 2001, the Department published a notice of initiation of a new shipper review of the antidumping duty order on potassium permanganate from the People's Republic of China (PRC) covering the period of January 1, 2000, through December 31, 2000 (66 FR 13895). On January 3, 2002, the Department published the preliminary results of its antidumping duty new shipper review (67 FR 303). In our notice of preliminary results, we stated our intention to issue the final results of this new shipper review within 90 days from the date of the preliminary results unless the time limit is extended.

Extension of Time Limit For Final Results of Review

Based on a number of complex factual issues in the preliminary results, we have determined that additional time is needed in order to complete the final results of this review. Therefore, the Department is extending the time limit for completion of the final results until no later than May 25, 2002. See Memorandum from Holly A. Kuga to Bernard T. Carreau, dated concurrently with this notice, which is on file in the Central Records Unit, Room B-099 of the main Commerce building.

This extension is in accordance with section 751(a)(2)(B)(iv) of the Act.

March 7, 2002
Bernard T. Carreau,
Deputy Assistant Secretaryfor Import Administration, Group II.

[FR Doc. 02-6176 Filed 3-13-02; 8:45 am]

BILLING CODE 3510-DS-S